DEPARTMENT OF THE INTERIOR

Bureau of Land Management

[LLNML00000 L12200000.DF0000 20XL1109AF]

Notice of Public Meeting for the Las Cruces District Resource Advisory Council Meeting, New Mexico

AGENCY: Bureau of Land Management, Interior.

ACTION: Notice of public meeting.

SUMMARY: In accordance with the Federal Land Policy and Management Act and the Federal Advisory Committee Act, the Bureau of Land Management's (BLM) Las Cruces District Resource Advisory Council (RAC) will meet as indicated below.

DATES: The RAC will hold a full-day field trip and a half-day public meeting on January 22 and 23, 2020, from 9:00 a.m. to 12:00 p.m. The public comment period is scheduled for 11:30 a.m. on January 23.

ADDRESSES: The field trip will originate and end at the BLM Las Cruces District Office, 1800 Marquess Street, Las Cruces, NM 88001. The meeting will be held at the same address. The public may send written comments to the RAC at this same address, Attn: Bill Childress. In order to be considered during the meeting, comments must be received no later than January 17, 2020.

FOR FURTHER INFORMATION CONTACT: Designated Federal Official Bill Childress, BLM Las Cruces District, 1800 Marquess Street, Las Cruces, NM 88001, telephone: 575-525-4421, email: wchildre@blm.gov. Persons who use a telecommunications device for the deaf (TDD) may call the Federal Relay Service (FRS) at 1-800-877-8339, to contact Mr. Childress during normal business hours. The FRS is available 24 hours a day, 7 days a week, to leave a message or question. You will receive a reply during normal business hours.

SUPPLEMENTARY INFORMATION: The 10-member Las Cruces District RAC advises the Secretary of the Interior, through the BLM, on a variety of planning and management issues associated with public land management in the Las Cruces District.

A field trip will take RAC members to several areas in the District related to the Rincon Watershed Restoration Project and ongoing collaborative efforts. The planned meeting agenda includes updates on current and proposed land/realty, planning, and energy projects in the Las Cruces District, including an update on the American Magnesium Mining Plan of Operation. In addition, the RAC will discuss the field trip points about the Rincon Watershed Restoration Project.

The field trip and meeting are open to the public. Persons wishing to attend the field trip will need to provide their own transportation. In addition, persons wishing to make comments during the public comment period should register in person with the BLM by 11:00 a.m. on the meeting day, at the meeting location. Depending on the number of persons wishing to comment, the length of comments may be limited.

Public Disclosure of Comments: Before including your address, phone number, email address, or other personal identifying information in your comment, you should be aware that your entire comment—including your personal identifying information—may be made publicly available at any time. While you can ask us in your comment to withhold your personal identifying information from public review, we cannot guarantee that we will be able to do so.

(Authority: 43 CFR 1784.4-1)

Timothy R. Spisak,
BLM New Mexico State Director.

[FR Doc. 2019-27689 Filed 12-23-19; 8:45 am]

BILLING CODE 4310-FB-P